DEPARTMENT OF THE INTERIOR

National Park Service

[NPS-WASO-NRSS-NPS35432; PPWONRADD3, PPMRSNR1Y.NM0000, 199P103601 (213); OMB Control Number 1024-0236]

Agency Information Collection Activities; Submission to the Office of Management and Budget for Review and Approval; Research Permit and Reporting System Applications and Reports

AGENCY: National Park Service, Interior.

ACTION: Notice of information collection; request for comment.

SUMMARY: In accordance with the Paperwork Reduction Act of 1995, we, the National Park Service (NPS) are proposing to renew an information collection.

DATES: Interested persons are invited to submit comments on or before June 15, 2023.

ADDRESSES: Written comments and suggestions on the information collection requirements should be submitted by the date specified above in DATES to http://www.reginfo.gov/public/do/PRAMain. Find this particular information collection by selecting “Currently under Review—Open for Public Comments” or by using the search function. Please provide a copy of your comments to the NPS Information Collection Clearance Officer (ADIR-ICCO), 12201 Sunrise Valley Drive, (MS-242) Reston, VA 20191 (mail); or phadrea_ponds@nps.gov (email). Please reference OMB Control Number 1024-0236 in the subject line of your comments.

FOR FURTHER INFORMATION CONTACT: To request additional information about this ICR, contact Timothy Watkins, Science Access & Engagement Coordinator; tim_watkins@nps.gov (email); or: 202-513-7189 (phone). Please reference OMB Control Number 1024-0236 in the subject line of your comments. Individuals in the United States who are deaf, deafblind, hard of hearing, or have a speech disability may dial 711 (TTY, TDD, or TeleBraille) to access telecommunications relay services. Individuals outside the United States should use the relay services offered within their country to make international calls to the point of contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on July 7, 2022 (87 FR 40547). We did not receive any comments.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: NPS policy requires that research studies and specimen collection conducted by researchers, other than NPS employees on official duty, require an NPS scientific research and collecting permit. The permitting process adheres to regulations codified in 36 CFR 2.1 which prohibit the disturbing, removing, or possessing of natural, cultural, and archeological resources. Additionally, regulations codified in 36 CFR 2.5 govern the collection of specimens in parks for the purpose of research, baseline inventories, monitoring, impact analysis, group study, or museum display.

As required by these regulations, a permitting system is managed for scientific research and collecting. NPS forms 10-741a, Application for a Scientific Research and Collecting Permit and 10-741b, Application for a Science Education Permit, are used to collect information from persons seeking a permit to conduct natural or social science research and collection activities in individual units of the National Park System. Individuals who receive a permit must report on the activities conducted under the permit using form 10-226 Investigator's Annual Report; 10-741C Field Work Check-in Report, and Form 10-741D Field Work Check-out Report.

The information in this collection is used to manage the use and preservation of park resources, and to report on the status of permitted research and collecting activities. We encourage respondents to use RPRS to complete and submit applications and reports. Additional information about existing applications, reporting forms, guidance and explanatory material can be found on the RPRS website (https://irma.nps.gov/RPRS/).

Title of Collection: Research Permit and Reporting System Applications and Reports, 36 CFR 2.1 and 2.5.

OMB Control Number: 1024-0236.

Form Number: NPS Forms 10-226, 10-741A, 10-741B, 10-741C, and 10-741D.

Type of Review: Extension of a currently approved collection. Respondents/Affected Public: Individuals; businesses; academic and research institutions; and Federal, State, local, and tribal governments.

Total Estimated Number of Annual Responses: 8,590.

Estimated Completion Time per Response: Varies. from 10 minutes to 90 minutes, depending on activity.

Total Estimated Number of Annual Burden Hours: 6,884.

Respondent's Obligation: Required to obtain or retain a benefit.

Frequency of Collection: On occasion for applications; annually for reports.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2023-10401 Filed 5-15-23; 8:45 am]

BILLING CODE 4312-52-P